SMALL BUSINESS ADMINISTRATION

[Declaration of Disaster #P017]

State of West Virginia (Amendment #1)

In accordance with a notice received from the Department of Homeland Security—Federal Emergency Management Agency, effective September 30, 2003, the above numbered declaration is hereby amended to establish the incident period for this disaster as beginning on September 18, 2003 and continuing through September 30, 2003.

All other information remains the same, i.e., the deadline for filing applications for physical damage is November 24, 2003.

(Catalog of Federal Domestic Assistance Program Nos. 59008)

Dated: October 6, 2003.
Herbert L. Mitchell,
Associate Administrator for Disaster Assistance.

[FR Doc. 03-25757 Filed 10-9-03; 8:45 am]

BILLING CODE 8025-01-P